DEPARTMENT OF HEALTH AND HUMAN SERVICES

Centers for Disease Control and Prevention

Disease, Disability, and Injury Prevention and Control Special Emphasis Panel: Centers for Agricultural Disease and Injury Research, Education and Prevention, Program Announcement (PA) Number 06-057

In accordance with section 10(a)(2) of the Federal Advisory Committee Act (Pub. L. 92-463), the Centers for Disease Control and Prevention (CDC) announces the following meeting:

Name: Disease, Disability, and Injury Prevention and Control Special Emphasis Panel (SEP): Centers for Agricultural Disease and Injury Research, Education and Prevention, Program Announcement Number 06-057.

Time and Date: 8 a.m.-5 p.m., May 16, 2006 (Closed).

Place: Renaissance Marriott, 6th Avenue, Pittsburgh, PA 15233 telephone 412-992-2049.

Status: The meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to Centers for Agricultural Disease and Injury Research, Education and Prevention, Program Announcement Number 06-057.

Contact Person for More Information: Steve Olenchock, PhD, Scientific Review Administrator, National Institute for Occupational Safety and Health, CDC, 1095 Willowdale Road, MS 1119, Morgantown, WV 26505, Telephone 304-285-6271. The Director, Management Analysis and Services Office, has been delegated the authority to sign Federal Register notices pertaining to announcements of meetings and other committee management activities, for both CDC and the Agency for Toxic Substances and Disease Registry.

Dated: April 12, 2006.
Alvin Hall,
Director, Management Analysis and Services Office, Centers for Disease Control and Prevention.

[FR Doc. E6-5720 Filed 4-17-06; 8:45 am]

BILLING CODE 4163-18-P